DEPARTMENT OF LABOR

Employment and Training Administration

Proposed Information Collection Request Submitted for Public Comment and Recommendations; Summaries Unemployment Insurance (UI) Trust Fund Activities Reports

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before January 17, 2006.

ADDRESSES: Send comments to James E. Herbert, Room C4526, 200 Constitution Avenue, NW., Washington, DC 20210, (202) 693-2926 (this is not a toll-free number). E-mail address is Herbert.James@dol.gov and the fax number is (202) 693-2874.

FOR FURTHER INFORMATION CONTACT: James E. Herbert, Room C4526, 200 Constitution Avenue, NW., Washington, DC 20210, (202) 693-2926 (this is not a toll-free number). E-mail address is Herbert.James@dol.gov and the fax number is (202) 693-2874.

SUPPLEMENTARY INFORMATION:

I. Background

Section 303(a)(4) of the Social Security Act (SSA) and Section 3304(a)(3) of the Federal Unemployment Tax Act (FUTA) require that all money received in the unemployment fund of a state be paid immediately to the Secretary of Treasury to the credit of the Unemployment Trust Fund (UTF). This is the “immediate deposit” standard.

Section 303(a)(5) of the SSA and Section 3304(a)(4) of the FUTA require that all money withdrawn from the UTF be used solely for the payment of unemployment compensation, exclusive of the expenses of administration. This is the “limited withdrawal standard”.

Federal law (Section 303(a)(6) of the SSA) gives the Secretary of Labor the authority to require the reporting of information deemed necessary to assure state compliance with the provisions of the SSA.

Under this authority, the Secretary of Labor requires the following reports to monitor state compliance with the immediate deposit and limited withdrawal standards:

ETA 2112: UI Financial Transactions Summary, Unemployment Fund

ETA 8401: Monthly Analysis of Benefit Payment Account

ETA 8405: Monthly Analysis of Clearing Account

ETA 8413: Income—Expense Analysis UC Fund, Benefit Payment Account

ETA 8414: Income—Expense Analysis UC Fund, Clearing Account

ETA 8403: Summary of Financial Transactions—Title IX Funds

These reports are submitted to the Office of Workforce Security (OWS) in the ETA which uses them to:

• Monitor cash flows into and out of the UTF to determine state compliance with the immediate deposit and limited withdrawal standards.

• Assure proper accounting for unemployment funds, an integral part of preparing the Department's consolidated financial statements, required by the Chief Financial Officer Act of 1990. The UTF is the single largest asset and liability on the statements.

• Reconcile the Department's records with the U.S. Treasury records.

• Develop UI research and actuarial reports, especially to monitor the solvency of the UTF.

The cited reports have been submitted monthly by the states the past several years in electronic format, with the exception of the ETA 8403. The Department is working with the U.S. Treasury to convert the ETA 8403 to an electronic format by December 31, 2006.

Since the reports are essential to the Department's financial statements and program oversight responsibilities, the Department seeks Office of Management and Budget (OMB) approval for a three year extension to March 31, 2009.

II. Desired Focus of Comments

Currently, the Employment and Training Administration is soliciting comments concerning the proposed extension for the collection of the UI Trust Fund Summaries reports. Comments should:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of the information on those who are to respond, including through the use of appropriate automated, electronic, mechanical, or other technological collection techniques or other forms of information technology, e.g., permitting electronic submissions of responses.

A copy of the proposed information collection request (ICR) can be obtained by contacting the office listed above in the addresses section of this notice.

III. Current Actions

Type of review: Extension.

Agency: Employment and Training Administration.

Title: ETA Summaries UI Trust Fund Activities.

OMB Number: 1205-0154.

Agency Numbers: ETA 2112, ETA 8401, ETA 8403, ETA 8405, ETA 8413 and ETA 8414.

Affected Public: 50 states, Washington, DC, Puerto Rico, and the Virgin Islands.

Total respondents: 53 states.

Frequency: ETA 8403: As needed. This report is submitted only when there is activity requiring update of the state's Reed Act account. ETA 2112, 8401, 8405, 8413, 8414: Monthly.

Total Responses: 53 states × 12 months = 636 responses.

Average Time Per Response: ETA 2112, 8401, 8405, 8413, 8414: 636 × 2.5 hours for all 5 reports (.5 hours for each report) = 1,590 hours.

ETA 8403: 53 states × 6 annual responses × 30 minutes per response = 159 reporting hours.

Estimated Total Burden Hours: 1,749 hours.

Estimated Total Burden Cost: $0.

Comments in response to this notice will be summarized and/or included in the request to the OMB for approval; they will also become part of the public record.

Dated: November 8, 2005.
Cheryl Atkinson,
Administrator, Office of Workforce Security.

[FR Doc. E5-6320 Filed 11-15-05; 8:45 am]

BILLING CODE 4510-30-P